ENVIRONMENTAL PROTECTION AGENCY

[EPA-HQ-OPPT-2018-0210; FRL-9981-54]

Problem Formulations for the Risk Evaluations To Be Conducted for the First Ten Chemical Substances Under the Toxic Substances Control Act, and Application of Systematic Review in TSCA Risk Evaluations; Extension of Comment Period

AGENCY: Environmental Protection Agency (EPA).

ACTION: Notice; extension of comment period.

SUMMARY: EPA issued a notice in the Federal Register of June 11, 2018, opening a comment period on problem formulations for the risk evaluations to be conducted for the first ten chemical substances listed in Table 1, along with a document entitled Application of Systematic Review in TSCA Risk Evaluations. This document extends the close of the comment period on the problem formulations for an additional 21 days, from July 26, 2018 to August 16, 2018. This comment period is being extended in response to requests received by the Agency. The Agency is also taking comments on the document entitled Application of Systematic Review in TSCA Risk Evaluations in conjunction with this comment period and not through a separate comment period. The systematic review document includes a structured process of identifying, evaluating and integrating evidence for both the hazard and exposure assessments developed during the TSCA risk evaluation process. This document may be revised periodically. EPA welcomes public input on the document.

DATES: Comments, identified by docket identification (ID) numbers identified in Table 1, must be received on or before August 16, 2018.

ADDRESSES: Follow the detailed instructions provided under ADDRESSES in the Federal Register document of June 11, 2018 (83 FR 26998) (FRL-9978-40).

FOR FURTHER INFORMATION CONTACT:

For technical information on the Problem Formulation documents contact: Christina Motilall, Risk Assessment Division, Office of Pollution Prevention and Toxics, Environmental Protection Agency, 1200 Pennsylvania Ave. NW, Washington, DC 20460-0001; telephone number: (202) 564-1287; email address: motilall.christina@epa.gov.

For technical information on Application of Systematic Review in TSCA Risk Evaluations contact: Iris Camacho, Risk Assessment Division, Office of Pollution Prevention and Toxics, Environmental Protection Agency, 1200 Pennsylvania Ave. NW, Washington, DC 20460-0001; telephone number: (202) 564-1229; email address: TSCA-systematicreview@epa.gov.

For general information contact: The TSCA-Hotline, ABVI-Goodwill, 422 South Clinton Ave. Rochester, NY 14620; telephone number: (202) 554-1404; email address: TSCA-Hotline@epa.gov.

SUPPLEMENTARY INFORMATION: This document extends the public comment period for certain chemicals established in the Federal Register document of June 11, 2018 (83 FR 26998) (FRL- 9978-40). In that document, a public comment period opened on EPA's problem formulation documents for the first 10 chemical substances undergoing risk evaluation under the Toxic Substances Control Act (TSCA) in Table 1 and the document entitled Application of Systematic Review in TSCA Risk Evaluations. EPA is hereby further extending the comment period for the problem formulation, and the document entitled Application of Systematic Review in TSCA Risk Evaluations, which was set to end on July 26, 2018, to August 16, 2018.

Although the comment periods will end on August 16, 2018, EPA will try to consider any additional comments received after this date. However, given the need to peer review the draft risk evaluations, the peer reviewers may not receive public comments submitted late. There will be an additional comment period following the publication of each of the draft risk evaluations.

Table 1—Chemicals With Extended Comment Periods
Chemical name | Docket ID No. | Agency contact
Asbestos | EPA-HQ-OPPT-2016-0736 | Robert Courtnage, courtnage.robert@epa.gov, 202-566-1081.
1-Bromopropane | EPA-HQ-OPPT-2016-0741 | Ana Corado, corado.ana@epa.gov, 202-564-0140.
1,4-Dioxane | EPA-HQ-OPPT-2016-0723 | Cindy Wheeler, wheeler.cindy@epa.gov, 202-566-0484.
Carbon Tetrachloride | EPA-HQ-OPPT-2016-0733 | Stephanie Jarmul, jarmul.stephanie@epa.gov, 202-564-6130.
Cyclic Aliphatic Bromide Cluster (HBCD) | EPA-HQ-OPPT-2016-0735 | Sue Slotnick, slotnick.sue@epa.gov, 202-566-1973.
Methylene Chloride | EPA-HQ-OPPT-2016-0742 | Ana Corado, corado.ana@epa.gov, 202-564-0140.
N-Methylpyrrolidone (NMP) | EPA-HQ-OPPT-2016-0743 | Ana Corado, corado.ana@epa.gov, 202-564-0140.
Pigment Violet 29 (Anthra[2,1,9-def:6,5,10-d′e′f′] diisoquinoline-1,3,8,10(2H,9H)-tetrone) | EPA-HQ-OPPT-2016-0725 | Hannah Braun, braun.hannah@epa.gov, 202-564-5614.
Tetrachloroethylene (also known as perchloroethylene) | EPA-HQ-OPPT-2016-0732 | Tyler Lloyd, lloyd.tyler@epa.gov, 202-564-4016.
Trichloroethylene (TCE) | EPA-HQ-OPPT-2016-0737 | Toni Krasnic, krasnic.toni@epa.gov, 202-564-0984.

To submit comments, or access the docket, please follow the detailed instructions provided under ADDRESSES in the Federal Register document of June 11, 2018. If you have questions on individual chemicals, consult the person listed in Table 1.

Authority: 15 U.S.C. 2601 et seq.

Dated: July 25, 2018.
Jeffery T. Morris,
Director, Office of Pollution Prevention and Toxics, Office of Chemical Safety and Pollution Prevention.

[FR Doc. 2018-16879 Filed 8-6-18; 8:45 am]

BILLING CODE 6560-50-P